FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Reporting, Recordkeeping, and Disclosure Requirements Associated with Regulation LL (FR LL; OMB No. 7100-0380).

DATES: The revisions to the collection are applicable as of March 29, 2024.

FOR FURTHER INFORMATION CONTACT: Federal Reserve Board Clearance Officer—Nuha Elmaghrabi—Office of the Chief Data Officer, Board of Governors of the Federal Reserve System, nuha.elmaghrabi@frb.gov, (202) 452-3884. Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Reporting, Recordkeeping, and Disclosure Requirements Associated with Regulation LL.

Collection identifier: FR LL.

OMB control number: 7100-0380.

General description of collection: Regulation LL—Savings and Loan Holding Companies (12 CFR part 238) requires certain large savings and loan holding companies (SLHCs) to submit a capital plan to the Board on an annual basis, request prior approval from the Board under certain circumstances before making a capital distribution, conduct company-run periodic stress tests, report the results of its company-run stress tests to the Board, publicly disclose a summary of the results of such stress tests, and comply with certain other reporting and recordkeeping requirements.

Capital is central to a firm's ability to absorb unexpected losses and continue to lend to creditworthy businesses and consumers. The Board's capital planning requirements for large bank holding companies help to ensure that these firms have robust systems and processes that incorporate forward-looking projections of revenue and losses to monitor and maintain their internal capital adequacy. The Board's stress testing and stress capital buffer requirements help ensure that a firm can meet its obligations to creditors and other counterparties, as well as continue to serve as a financial intermediary through periods of financial and economic stress.

Frequency: Ongoing, annual, biennial, or event-generated.

Respondents: Foreign SLHCs with average total consolidated assets of greater than $250 billion and domestic covered SLHCs with average total consolidated assets of greater than $100 billion.

Total estimated number of respondents: 1.

Total estimated change in burden: 31.

Total estimated annual burden hours: 14,430.¹

¹ More detailed information regarding this collection, including more detailed burden estimates, can be found in the OMB Supporting Statement posted at https://www.federalreserve.gov/apps/reportingforms/home/review. On the page displayed at the link, you can find the OMB Supporting Statement by referencing the collection identifier, FR LL.

Current actions: On September 28, 2023, the Board published a notice in the Federal Register (88 FR 66848) requesting public comment for 60 days on the extension, with revision, of the FR LL. The Board proposed to revise the FR LL to account for several reporting provisions and one recordkeeping provision which had not been previously cleared by the Board under the PRA. The comment period for this notice expired on November 27, 2023. The Board did not receive any comments. The revisions will be implemented as proposed.

Board of Governors of the Federal Reserve System, March 26, 2024.
Ann Misback,
Secretary of the Board.

[FR Doc. 2024-06716 Filed 3-28-24; 8:45 am]

BILLING CODE 6210-01-P